NUCLEAR REGULATORY COMMISSION

[NRC-2009-0476; DC/COL-ISG-018]

Office of New Reactors; Final Interim Staff Guidance on Standard Review Plan, Section 17.4, “Reliability Assurance Program”

AGENCY: Nuclear Regulatory Commission (NRC).

ACTION: Notice of availability.

SUMMARY: The NRC staff is issuing its Final Interim Staff Guidance (ISG) DC/COL-ISG-018 (Agencywide Documents Access and Management System (ADAMS) Accession No. ML103010113). The purpose of this ISG is to clarify the NRC staff guidance on the design reliability assurance program (RAP). This ISG updates the guidance provided to the staff in Standard Review Plan (SRP), Section 17.4, “Reliability Assurance Program,” of NUREG-0800, “Standard Review Plan for the Review of Safety Analysis Reports for Nuclear Power Plants,” March 2007. This ISG revises the NRC staff's review responsibilities and further clarifies the acceptance criteria and evaluation findings contained in the SRP Section 17.4 in support of the NRC reviews of the design certification (DC) and combined license (COL) applications. The NRC staff issues DC/COL-ISGs to facilitate timely implementation of current staff guidance and to facilitate activities associated with NRC review of applications for DCs and COLs. The NRC staff intends to incorporate the final approved DC/COL-ISG-018 into the next revisions of NUREG-0800, SRP Section 17.4 and Regulatory Guide (RG) 1.206, “Combined License Applications for Nuclear Power Plants (LWR Edition),” June 2007.

Disposition: On October 30, 2009, the NRC staff issued proposed DC/COL-ISG-018 on “Reliability Assurance Program,” ADAMS Accession No. ML092290791. The staff received only editorial comments which were incorporated. However, the ISG was further discussed at public meetings held at the NRC during 2010. These public meetings primarily focused on the Tier 1 inspections, tests, analyses, and acceptance criteria for the COL RAP during the design stage, which is specified in the ISG. This final issuance incorporates clarifications that resulted from these public meetings. A document comparing the version of the ISG that was issued for public comments and the final version of the ISG can be found under ADAMS Accession No. ML103010361.

ADDRESSES: The NRC maintains ADAMS, which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at pdr.resource@nrc.gov.

FOR FURTHER INFORMATION CONTACT: Mr. Todd A. Hilsmeier, Project Manager, PRA and Severe Accidents Branch, Division of Safety Systems & Risk Assessment, U.S. Nuclear Regulatory Commission, Washington, DC, 20555-0001; telephone: 301-415-0525 or e-mail: Todd.Hilsmeier@nrc.gov.

SUPPLEMENTARY INFORMATION: The agency posts its issued staff guidance in the agency external Web page (http://www.nrc.gov/reading-rm/doc-collections/isg/).

Dated at Rockville, Maryland, this 22nd day of March 2011.
For the Nuclear Regulatory Commission,
William F. Burton,
Chief, Rulemaking and Guidance Development Branch, Division of New Reactor Licensing, Office of New Reactor.

[FR Doc. 2011-7204 Filed 3-25-11; 8:45 am]

BILLING CODE 7590-01-P